DEPARTMENT OF HOUSING AND URBAN DEVELOPMENT

[Docket No. FR-7050-N-32]

30-Day Notice of Proposed Information Collection: Public Housing Flat Rent Exception Request Market Analysis, OMB Control No.: 2577-0290

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: August 1, 2022.

ADDRESSES: Interested persons are invited to submit comments regarding this proposal. Written comments and recommendations for the proposed information collection should be sent within 30 days of publication of this notice to OIRA_submission@omb.eop.gov or www.reginfo.gov/public/do/PRAMain. Find this particular information collection by selecting “Currently under 30-day Review—Open for Public Comments” or by using the search function.

FOR FURTHER INFORMATION CONTACT: Colette Pollard, Reports Management Officer, REE, Department of Housing and Urban Development, 451 7th Street SW, Washington, DC 20410; email Colette Pollard at Colette.Pollard@hud.gov or telephone 202-402-3400. This is not a toll-free number. Copies of available documents submitted to OMB may be obtained from Ms. Pollard.

SUPPLEMENTARY INFORMATION: This notice informs the public that HUD is seeking approval from OMB for the information collection described in Section A.

The Federal Register no25513tice that solicited public comment on the information collection for a period of 60 days was published on April 29, 2022 at 87 FR 25513.

A. Overview of Information Collection

Title of Information Collection: Public Housing Flat Rent Exception Request Market Analysis.

OMB Approval Number: 2577-0290.

Type of Request: Revision of a currently approved collection.

Form Number: HUD-5880.

Description of the need for the information and proposed use: The form will streamline the process and reduce burden on PHAs when submitting a market analysis as part of a flat rent exception request in accordance with Notice PIH 2015-13(HA), which implements Section 238 of Title II of Public Law 113-235, the Department of Housing and Urban Development Appropriations Act of 2015. Notice PIH 2015-13(HA) allows PHAs to request flat rents that are based on the local rental market conditions, when the PHA can demonstrate through a market analysis that the FMRs are not reflective of the local market. The current submission process does not stipulate a template for PHA submissions, therefore PHAs spend widely varying amounts of time and effort compiling information which may or may not facilitate HUD's review of their request.

Respondents: Public Housing Authorities (PHAs).

Information collection | Number of respondents | Frequency of response | Responses per annum | Burden hour per response | Annual burden hours | Hourly cost per response | Annual cost
HUD-5880—Rent Adjustment Guide | 50 | 1 | 1 | 8 | 400 | $17.11 | $6844.00
Total |  |  |  |  |  |  |

Explanation of burden hour and cost calculation:

• Number of respondents = 50

• Frequency of response/responses per annum = 1/1 (PHAs make one submission per fiscal year)

• Burden hours per response = estimated time to complete a market analysis

• Annual burden hours = 400

• Hourly cost per response = the average hourly pay rate earned by a housing specialist in a PHA responsible for collecting market data

• Annual cost = 400 * $17.11

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses

(5) ways to minimize the burden of the collection of information on those who are to respond, including the use of automated collection techniques or other forms of information technology.

HUD encourages interested parties to submit comment in response to these questions.

C. Authority

Section 3507 of the Paperwork Reduction Act of 1995, 44 U.S.C. chapter 35.

Colette Pollard,
Department Reports Management Officer, Office of Policy Development and Research, Chief Data Officer.

[FR Doc. 2022-14037 Filed 6-29-22; 8:45 am]

BILLING CODE 4210-67-P